DEPARTMENT OF COMMERCE

National Oceanic and Atmospheric Administration

[RTID 0648-XD700]

Endangered and Threatened Species; Take of Anadromous Fish

AGENCY: National Marine Fisheries Service (NMFS), National Oceanic and Atmospheric Administration (NOAA), Commerce.

ACTION: Notice; issuance of two permits to enhance the propagation and survival of endangered and threatened species.

SUMMARY: Notice is hereby given that NMFS has issued two direct take permits pursuant to the Endangered Species Act (ESA) for research and enhancement purposes. Permit 18181-4R was issued to the California Department of Fish and Wildlife (CDFW) for ongoing research, monitoring, and rescue activities in the Sacramento River Basin, Central Valley, California. Permit 21477-2R was issued to FISHBIO, Inc. (FISHBIO) for activities associated with the Stanislaus Native Fish Plan.

DATES: Permit 18181-4R was issued on January 13, 2022, with an expiration date of December 31, 2026. Permit 21477-2R was issued on March 22, 2023, with an expiration date of December 31, 2027. The issued permits are subject to certain conditions set forth therein. Subsequent to issuance, the necessary countersignatures by the applicants were received.

ADDRESSES: The permits and related documents are available for review upon written request via email to ccvo.consultationrequests@noaa.gov (please include the permit number in the subject line of the email).

FOR FURTHER INFORMATION CONTACT: Amanda Cranford, Sacramento, California, (916) 930-3706, email: Amanda.Cranford@noaa.gov.

SUPPLEMENTARY INFORMATION:

ESA-Listed Species Covered in This Notice

This notice is relevant to the following ESA-listed species: endangered Sacramento River winter-run Chinook salmon (Oncorhynchus tshawytscha) evolutionarily significant unit (ESU), threatened Central Valley spring-run Chinook salmon (O. tshawytscha) ESU, threatened California Central Valley steelhead (O. mykiss) Distinct Population Segment (DPS), and threatened southern DPS of North American green sturgeon (Acipenser medirostris).

Permit 18181-4R

Notice was published in the Federal Register (86 FR 44696) on August 13, 2021, that a permit application had been submitted by CDFW to enhance the propagation and survival of species listed under the ESA. Under Permit 18181-4R, CDFW proposes to carry out rescues, research, and monitoring activities in California's Central Valley. Monitoring will provide information on the timing, composition, and relative abundance of Central Valley Chinook salmon and steelhead populations. Data collected over several years is expected to improve the overall understanding of the status of the species and aid in the recovery and protection of the anadromous fish populations in the Sacramento River Basin.

Permit 21477-2R

Notice was published in the Federal Register (87 FR 52751) on August 29, 2022, that a permit application had been submitted by FISHBIO to enhance the propagation and survival of species listed under the ESA. Under Permit 21477-2R, FISHBIO will continue to implement a nonnative predator research and pilot fish removal program in the Stanislaus River. The program aims to investigate whether removal is an effective strategy to improve overall conditions for native fish, specifically the survival of juvenile salmonids.

In compliance with the National Environmental Policy Act of 1969 (42 U.S.C. 4321 et seq.), a final determination has been made that the activities proposed are categorically excluded from the requirement to prepare an environmental assessment or environmental impact statement.

Authority

Scientific research permits are issued in accordance with section 10(a)(1)(A) of the ESA (16 U.S.C. 1531 et. seq) and regulations governing listed fish and wildlife permits (50 CFR 222-226). NMFS issues permits based on finding that such permits: (1) are applied for in good faith; (2) if granted and exercised, would not operate to the disadvantage of the listed species that are the subject of the permit; and (3) are consistent with the purposes and policy of section 2 of the ESA. The authority to take listed species is subject to conditions set forth in the permits.

Dated: January 31, 2024.
Angela Somma,
Chief, Endangered Species Division, Office of Protected Resources, National Marine Fisheries Service.

[FR Doc. 2024-02253 Filed 2-5-24; 8:45 am]

BILLING CODE 3510-22-P